DEPARTMENT OF ENERGY

Federal Energy Regulatory Commission

Combined Notice of Filings #1

Take notice that the Commission received the following Complaints and Compliance filings in EL Dockets:

Docket Numbers: EL23-49-000; QF22-58-000.

Applicants: McAdoo & Allen, Inc.

Description: Petition for Enforcement and Declaratory Order of McAdoo & Allen, Inc. d/b/a Quaker Color.

Filed Date: 3/17/23.

Accession Number: 20230317-5180.

Comment Date: 5 p.m. ET 4/7/23.

Docket Numbers: EL23-50-000.

Applicants: Independent Market Monitor for PJM v. PJM Interconnection, L.L.C.

Description: Complaint of Independent Market Monitor for PJM v. PJM Interconnection, L.L.C.

Filed Date: 3/27/23.

Accession Number: 20230327-5039.

Comment Date: 5 p.m. ET 4/17/23.

Take notice that the Commission received the following electric rate filings:

Docket Numbers: ER18-1489-002; ER16-1154-009; ER13-1101-027; ER13-1541-026; ER14-787-020; ER14-661-017; ER15-54-011; ER15-55-011; ER15-1475-012; ER15-2593-011; ER16-452-010; ER16-1882-004; ER16-705-008; ER16-706-008; ER17-2508-003; ER17-252-005; ER21-1988-003; ER21-2867-001.

Applicants: Tri-State Generation and Transmission Association, Inc., SP Garland Solar Storage, LLC, 2016 ESA Project Company, LLC, RE Gaskell West 1 LLC, RE Garland A LLC, RE Garland LLC, Boulder Solar Power, LLC, RE Tranquillity LLC, Desert Stateline LLC, North Star Solar, LLC, Blackwell Solar, LLC, Lost Hills Solar, LLC, SG2 Imperial Valley LLC, Macho Springs Solar, LLC, Campo Verde Solar, LLC, Spectrum Nevada Solar, LLC, Parrey, LLC, SP Cimarron I, LLC.

Description: Supplement to June 30, 2022, Triennial Market Power Analysis for Southwest Region of SP Cimarron I, LLC, et al.

Filed Date: 3/24/23.

Accession Number: 20230324-5336.

Comment Date: 5 p.m. ET 4/14/23.

Docket Numbers: ER19-1078-002.

Applicants: PPA Grand Johanna LLC.

Description: Compliance filing: Notice of Change in Status to be effective 3/28/2023.

Filed Date: 3/27/23.

Accession Number: 20230327-5184.

Comment Date: 5 p.m. ET 4/17/23.

Docket Numbers: ER22-611-002.

Applicants: Wildcat I Energy Storage, LLC.

Description: Compliance filing: Notice of Change in Status to be effective 3/28/2023.

Filed Date: 3/27/23.

Accession Number: 20230327-5185.

Comment Date: 5 p.m. ET 4/17/23.

Docket Numbers: ER22-1554-003.

Applicants: Ford County Wind Farm LLC.

Description: Compliance filing: Compliance Filing Revising Tariff Record to be effective 7/1/2022.

Filed Date: 3/27/23.

Accession Number: 20230327-5145.

Comment Date: 5 p.m. ET 4/17/23.

Docket Numbers: ER23-567-001.

Applicants: Southwest Power Pool, Inc.

Description: Tariff Amendment: Deficiency Response—Transmission Owner Project Evaluation Process to be effective 2/6/2023.

Filed Date: 3/27/23.

Accession Number: 20230327-5186.

Comment Date: 5 p.m. ET 4/17/23.

Docket Numbers: ER23-1034-001.

Applicants: PJM Interconnection, L.L.C.

Description: Tariff Amendment: Amendment to ISA, SA No. 6000; Queue No. AD2-116 in Docket No. ER23-1034 to be effective 4/3/2023.

Filed Date: 3/27/23.

Accession Number: 20230327-5180.

Comment Date: 5 p.m. ET 4/17/23.

Docket Numbers: ER23-1466-000.

Applicants: Interstate Power and Light Company, ITC Midwest LLC.

Description: § 205(d) Rate Filing: Interstate Power and Light Company submits tariff filing per 35.13(a)(2)(iii: Update to O&T Agreement Exhibits and Appendices (2023) to be effective 5/29/2023.

Filed Date: 3/27/23.

Accession Number: 20230327-5017.

Comment Date: 5 p.m. ET 4/17/23.

Docket Numbers: ER23-1467-000.

Applicants: PJM Interconnection, L.L.C.

Description: § 205(d) Rate Filing: Original NSA, Service Agreement No. 6857; Queue No. AC1-168 to be effective 2/23/2023.

Filed Date: 3/27/23.

Accession Number: 20230327-5042.

Comment Date: 5 p.m. ET 4/17/23.

Docket Numbers: ER23-1468-000.

Applicants: PJM Interconnection, L.L.C.

Description: § 205(d) Rate Filing: Amendment to WMPA, Service Agreement No. 5836; Queue No. AE2-227 to be effective 5/27/2023.

Filed Date: 3/27/23.

Accession Number: 20230327-5047.

Comment Date: 5 p.m. ET 4/17/23.

Docket Numbers: ER23-1469-000.

Applicants: Arroyo Solar LLC.

Description: Initial rate filing: Certificate of Concurrence to Operational Control and Maintenance Agreement to be effective 12/31/2022.

Filed Date: 3/27/23.

Accession Number: 20230327-5058.

Comment Date: 5 p.m. ET 4/17/23.

Docket Numbers: ER23-1470-000.

Applicants: Cottontail Solar 2, LLC.

Description: Baseline eTariff Filing: Petition for MBR Authorization with Waivers & Expedited Treatment to be effective 4/15/2023.

Filed Date: 3/27/23.

Accession Number: 20230327-5070.

Comment Date: 5 p.m. ET 4/17/23.

Docket Numbers: ER23-1471-000.

Applicants: MPower Energy NJ LLC.

Description: Baseline eTariff Filing: MPE_NJ_FERC_Application to be effective 4/26/2023.

Filed Date: 3/27/23.

Accession Number: 20230327-5075.

Comment Date: 5 p.m. ET 4/17/23.

Docket Numbers: ER23-1472-000.

Applicants: SunZia Transmission, LLC.

Description: § 205(d) Rate Filing: Generator Interconnection Agreement with SunZia Wind PowerCo LLC to be effective 5/26/2023.

Filed Date: 3/27/23.

Accession Number: 20230327-5078.

Comment Date: 5 p.m. ET 4/17/23.

Docket Numbers: ER23-1473-000.

Applicants: PJM Interconnection, L.L.C.

Description: § 205(d) Rate Filing: Amendment to WMPA, Service Agreement No. 5837; Queue No. AE2-228 to be effective 5/27/2023.

Filed Date: 3/27/23.

Accession Number: 20230327-5083.

Comment Date: 5 p.m. ET 4/17/23.

Docket Numbers: ER23-1474-000.

Applicants: PJM Interconnection, L.L.C.

Description: § 205(d) Rate Filing: Original ISA, Service Agreement No. 6838; Queue No. AF2-356 to be effective 2/23/2023.

Filed Date: 3/27/23.

Accession Number: 20230327-5120.

Comment Date: 5 p.m. ET 4/17/23.

Docket Numbers: ER23-1475-000.

Applicants: Midcontinent Independent System Operator, Inc.

Description: § 205(d) Rate Filing: 2023-03-27_Phasing Out Stored Energy Resources and SER-II to be effective 6/1/2023.

Filed Date: 3/27/23.

Accession Number: 20230327-5135.

Comment Date: 5 p.m. ET 4/17/23.

Docket Numbers: ER23-1476-000.

Applicants: Cottontail Solar 8, LLC.

Description: Baseline eTariff Filing: Petition for MBR Authorization with Waivers & Expedited Treatment to be effective 4/15/2023.

Filed Date: 3/27/23.

Accession Number: 20230327-5160.

Comment Date: 5 p.m. ET 4/17/23.

Take notice that the Commission received the following electric securities filings:

Docket Numbers: ES23-38-000.

Applicants: Northern Maine Independent Administrator, Inc.

Description: Application Under Section 204 of the Federal Power Act for Authorization to Issue Securities of Northern Maine Independent System Administrator, Inc.

Filed Date: 3/24/23.

Accession Number: 20230324-5284.

Comment Date: 5 p.m. ET 4/14/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2023.
Debbie-Anne A. Reese,
Deputy Secretary.

[FR Doc. 2023-06690 Filed 3-30-23; 8:45 am]

BILLING CODE 6717-01-P